DEPARTMENT OF THE INTERIOR

Bureau of Land Management

[15X L1109AF LUTY01000 L12200000.EA0000 24 1A]

Notice of Temporary Restrictions for Selected Public Lands in Grand County, UT

AGENCY: Bureau of Land Management, Interior.

ACTION: Notice of Temporary Restriction.

SUMMARY: Notice is hereby given that a temporary restriction is in effect on certain public lands administered by the Bureau of Land Management (BLM)—Moab Field Office, Moab, Utah.

DATES: This temporary restriction will be in effect from May 14, 2015 to May 15, 2017.

FOR FURTHER INFORMATION CONTACT: Beth Ransel, Moab Field Office Manager, BLM—Moab Field Office, 82 East Dogwood Avenue, Moab, UT 84532 or telephone 435-259-2100. Persons who use a telecommunications device for the deaf (TDD) may call the Federal Information Relay Service (FIRS) at 1-800-877-8339 to contact the above individual during normal business hours. The FIRS is available 24 hours a day, 7 days a week, to leave a message or question with the above individuals. Replies are provided during normal business hours. Also see the Moab Field Office Web site at: www.blm.gov/ut/st/en/fo/moab.html.

SUPPLEMENTARY INFORMATION: This temporary restriction affects public lands in the vicinity of Corona Arch and Gemini Bridges in Grand County, Utah. The legal descriptions of the affected public lands are:

Salt Lake Meridian

T. 25 S., R. 20 E.,

Sec. 34, NW1/4SW1/4 (that part surrounding Gemini Bridges);

T. 25 S., R. 21 E.,

Sec. 32, SE1/4SE1/4 (that part surrounding Corona Arch);

T. 26 S., R. 21 E.,

Sec. 5, NE1/4 (that part surrounding Corona Arch).

The areas described aggregate 37.3 acres.

The temporary restriction is necessary because activities including, but not limited to, ziplining, highlining, slacklining, rappelling, climbing, and swinging are causing user conflicts between hikers and roped-activity participants at these frequently visited areas on Moab Field Office-managed public lands.

The BLM will post restriction signs at main entry points to these areas. This restriction order will be posted in the Moab Field Office, 82 East Dogwood, Moab, UT 84532. Maps of the affected areas and other documents associated with this restriction are available at the Moab Field Office Web site at www.blm.gov/ut/st/en/fo/moab.html. While this temporary restriction is in place, the Moab Field Office will consider whether to permanently restrict these activities on the affected 37.3 acres of public lands through the BLM's land-use planning process outlined at 43 CFR part 1610.

Under the authority of Section 303(a) of the Federal Land Policy and Management Act of 1976 (43 U.S.C. 1733(a)), 43 CFR 8360.0-7, and 43 CFR 8364.1, the BLM will enforce the following within the Corona Arch and Gemini Bridges areas:

Corona Arch and Gemini Bridges are closed to ziplining, highlining, slacklining, rappelling, climbing, and swinging. This temporary restriction affects 31 acres surrounding Corona Arch and 6.3 acres surrounding Gemini Bridges. The restriction means that there will be no activities involving ropes, cables, vectran, climbing aids, webbing or anchors (“roped activities”) allowed on the affected public lands in the vicinity of Corona Arch and Gemini Bridges.

The following persons are exempt from this order: Federal, State, and local officers and employees in the performance of their official duties; members of organized rescue or fire-fighting forces in the performance of their official duties; and persons with written authorization from the BLM.

Any person who violates the above rule(s) and/or restriction(s) may be tried before a United States Magistrate and fined no more than $1,000, imprisoned for no more than 12 months, or both. Such violations may also be subject to the enhanced fines provided for by 18 U.S.C. 3571.

Authority: 43 CFR 8364.1.

Megan Crandall,
Acting State Director.

[FR Doc. 2015-11672 Filed 5-13-15; 8:45 am]

BILLING CODE 4310-DQ-P